DEPARTMENT OF TRANSPORTATION

Federal Aviation Administration

Notice of Intent To Request Renewal From the Office of Management and Budget (OMB) of Four Current Public Collections of Information

AGENCY: Federal Aviation Administration (FAA), DOT.

ACTION: Notice.

SUMMARY: In compliance with the Paperwork Reduction Act (44 U.S.C. 3501 et seq.), the FAA invites public comment on four currently approved public information collections which will be submitted to OMB for renewal.

DATES: Comments must be received on or before June 13, 2005.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0009, Pilot Schools—FAR 141. Chapter 447, Subsection 44707, authorizes certification of civilian schools giving instruction in flying. 14 CFR Part 141 prescribes requirements for pilot schools certification. Information collected is used for certification and to determine compliance. The respondents are applicants who wish to be issued pilot school certificates and associated ratings. The current estimated annual reporting burden is 28,878 hours.

2. 2120-0044, 14 CFR part 133, Rotorcraft External-Load Operations. This regulation was adopted to establish certification rules governing non-passenger-carrying rotorcraft, external-load operations conducted for compensation or hire. The applicants are individual airmen, state and local governments, and businesses, and the information collected will be used to establish their compliance with the regulation. The current estimated annual reporting burden is 3,268 hours.

3. 2120-0633. Exemptions for Air Taxi and Commuter Air Carrier Operations. 14 CFR Part 298 requires air carrier operators to obtain a certificate of public convenience and necessity from the DOT, with the exception of air taxi and commuter air operators. In order to be exempted from this requirement, such operators must apply for exemption with the DOT. This collection is used to ensure that affected companies comply with the requirements under this regulation. The current estimated annual reporting burden is 1,020 hours.

4. 2120-0680, Part 60—Flight Simulation Device Initial and Continuing Qualification and Use (NPRM). The collection of this information is necessary to ensure safety of flight by ensuring complete and adequate training, testing, checking, and experience is obtained and maintained by those who operate under 14 CFR Parts 61, 63, 91, 121, 135, 141, and 142 of the regulation and who use flight simulation in lieu of aircraft for these functions. The current estimated annual reporting burden is 201,653 hours.

Issued in Washington, DC, on April 6, 2005.
Judith D. Street,
FAA Information Collection Clearance Officer, ABA-20.

[FR Doc. 05-7318 Filed 4-11-05; 8:45 am]

BILLING CODE 4910-13-M